DEPARTMENT OF THE TREASURY

Federal Law Enforcement Training Center

FLETC Glynco, GA; Notice of Intent

AGENCY: Federal Law Enforcement Training Center, Treasury.

ACTION: Notice of intent to hold public meeting and prepare an environmental assessment.

SUMMARY: Notice is hereby given that the Federal Law Enforcement Training Center (FLETC), pursuant to the National Environmental Policy Act of 1969 (NEPA), the Council on Environmental Quality Regulations for Implementing the National Environmental Policy Act (40 CFR parts 1500-1508), and the Department of the Treasury Directive 75-02 (Department of the Treasury Environmental Quality Program), proposes to prepare an Environmental Assessment related to the limited acquisition of certain public roadways adjacent to the FLETC Glynco, Georgia facility. The proposed action is associated with a previous FLETC action involving the purchase of property and buildings located at the intersection of Sidney Lanier Drive and Ethridge Drive, Brunswick, Georgia, which are adjacent to the existing FLETC site. The action addressed herein includes acquisition of portions of these public roads near their intersection, construction of cul-de-sacs where these public roads are blocked to allow turnarounds, security fencing to connect and incorporate the property and buildings noted above into the perimeter of the adjacent FLETC site, and extension of the current FLETC internal perimeter road. Double leaf security gates will be installed in each cul-de-sac.

Meeting Information: Public participation in the scoping process will be an integral part of this project. During the scoping process the FLETC will seek information, comments, and guidance from agencies and the public that may be interested in, or affected by, this project. The scoping process will include: (a) Identification of potential issues; (b) identification of issues to be analyzed in depth; (c) elimination of insignificant issues; (d) identification of potential environmental effects; (e) exploration of potential alternatives; and (f) determination of potentially involved agencies. The FLETC will conduct a meeting associated with the scoping of the assessment of potential significant environmental impacts related to the project. The meeting will be advertised in a newspaper of general circulation in the project area. The meeting will be open to the interested public, and federal, state, and local government agencies, and will be held on November 7, 2002 from 7 p.m. until 9 p.m. at the Coastal Georgia Community College 3700 Altama Avenue Brunswick, Georgia in the Southeast Georgia Conference Center for Continuing Education Building. The public and agencies are invited to participate in the planning and analysis of the proposed project. Representatives of the FLETC and its consultants will be available at the meeting to discuss the FLETC's environmental review process, describe the project and alternatives under consideration, discuss the scope of environmental issues to be considered in accordance with the requirements of NEPA, and answer questions and written comments.

DATES: Written comments will be accepted until December 8, 2002.

ADDRESSES: Send comments to: FLETC, Building T-726, Glynco, GA 31524.

FOR FURTHER INFORMATION CONTACT: Susan Shaw, NEPA Coordinator/Project Manager, FLETC, at (912) 261-4557. Ms. Shaw's e-mail address is sshaw@fletc.treas.gov.

SUPPLEMENTARY INFORMATION: The Federal Law Enforcement Training Center has a mission of providing high quality, cost-effective training of federal law enforcement personnel. The Glynco, Georgia FLETC facility is the primary training location for FLETC, with others located in Maryland and New Mexico.

Alternatives being considered by the FLETC for this project include: (a) No Action—Continuation of the present road configuration and public access without security improvements to the buildings; (b) Proposed Action—Acquisition of public roads, inclusion of the buildings into the FLETC site, construction of cul-de-sacs, and construction of perimeter fencing and road; (c) Alternative—Improvements to building security without road acquisition, with continued isolation of the buildings from the contiguous FLETC site.

Based on the input received at the public meeting, and ongoing contact and involvement of the interested agencies and the public, the FLETC will prepare a Draft Environmental Assessment addressing the significance of the project and its impact for public review and comment. Distribution and placement of this document in publicly accessible places such as the regional library and government offices will occur. A Final Environmental Assessment will be prepared considering the comments from agencies and the public received following the review period for the draft document.

Should the FLETC determine, based on the information presented in the Final Environmental Assessment for the project, that the impacts of the acquisition and associated construction will not have a significant environmental impact, it will prepare a Finding of No Significant Impact (FONSI) for publication in the Federal Register and in a newspaper of general circulation in the project area. Should significant environmental impacts be determined to exist due to the project, the FLETC will proceed with the preparation of an Environmental Impact Statement, per the requirements of NEPA, the Council on Environmental Quality, and its own environmental policies and procedures.

Authority: The Council on Environmental Quality's National Environmental Policy Act, 40 CFR parts 1500 et seq.

Dated: October 21, 2002.
Paul Magalski,
Assistant Director, Office of Compliance, Federal Law Enforcement Training Center.

[FR Doc. 02-27195 Filed 10-24-02; 8:45 am]

BILLING CODE 4810-32-P